LEGAL SERVICES CORPORATION

Sunshine Act Meetings of the Board of Directors and the Board's Five Committees; Notice

TIMES AND DATES: The Legal Services Corporation Board of Directors and five of the Board's Committees will meet on October 31-November 1, 2008 in the order set forth in the following schedule, with each meeting commencing promptly upon adjournment of the immediately preceding meeting except that for a period of time the Provision for the Delivery of Legal Services Committee and the Audit Committee will meet concurrently on Friday, October 31, 2008.

PUBLIC OBSERVATION BY TELEPHONE: Members of the public that wish to listen to the open portions of the meetings live may do so by following the telephone call-in directions given below. You are asked to keep your telephone muted to eliminate background noises. Comments from the public may from time to time be solicited by the presiding Chairman.

Call-In Directions for Open Sessions

Friday, October 31, 2008

Provisions Committee and Operations & Regulations Committee Meetings

• Call toll-free number 1-800-369-1719;

• When prompted, enter the following numeric pass code: 35785;

• When connected to the call, please “MUTE” your telephone immediately.

Audit Committee Meeting (Only)

• Call toll-free number 1-888-566-5976;

• When prompted, enter the following numeric pass code: 65859;

• When connected to the call, please “MUTE” your telephone immediately.

Saturday, November 1, 2008

• Call toll-free number 1-800-369-1719;

• When prompted, enter the following numeric pass code: 35785;

• When connected to the call, please “MUTE” your telephone immediately.

Meeting Schedule
| Time ¹
Friday, October 31, 2008:
1. Provision for the Delivery of Legal Services Committee (Provisions Committee) | 2 p.m.
2. Audit Committee | 2:30 p.m.
3. Operations & Regulations Committee ² |
Saturday, November 1, 2008:
4. Governance & Performance Review Committee (Open Session followed by a Closed Session) | 8:30 a.m.
5. Board of Directors (Executive Session) |
6. Finance Committee |
7. Board of Directors (Open Session) |

LOCATION: The Hilton ¹ Hotel,² 255 S. West Temple, Salt Lake City, Utah.

¹ Please note that all times reflected in this notice are approximate and in Mountain Time.

² The Operations & Regulations Committee meeting follows adjournment of the Provisions Committee meeting.

STATUS OF MEETINGS: Open, except as noted below.

• November 1, 2008 Governance & Performance Review Committee Meeting—Open, except that a portion of the meeting of the Governance & Performance Review Committee may be closed to the public pursuant to a vote of the Board of Directors authorizing the Committee to consider and act on a recommendation regarding the performance review of President Helaine M. Barnett for calendar year 2008. A verbatim written transcript of the session will be made. The transcript of any portions of the closed session falling within the relevant provisions of the Government in the Sunshine Act, 5 U.S.C. 552b(c)(2) & (6), and the corresponding provisions of the Legal Services Corporation's implementing regulation, 45 CFR 1622.5(a) & (e), will not be available for public inspection. The transcript of any portions of the closed sessions not falling within the cited provisions will be available for public inspection. A copy of the General Counsel's Certifications that the closings are authorized by law will be available upon request.

• November 1, 2008 Board of Directors Meeting—Open, except that a portion of the meeting of the Board of Directors may be closed to the public pursuant to a vote of the Board of Directors to consider and act on the General Counsel's report on potential and pending litigation involving LSC, consider and act on the recommendation of the Governance & Performance Review Committee regarding the performance review of President Helaine M. Barnett for calendar year 2008, and consider and act on the Inspector General's report on subpoena enforcement action. A verbatim written transcript of the session will be made. The transcript of any portions of the closed session falling within the relevant provisions of the Government in the Sunshine Act, 5 U.S.C. 552b(c)(2), (6), (9)(B) and (10), and the corresponding provisions of the Legal Services Corporation's implementing regulation, 45 CFR 1622.5(a), (e), (g) and (h), will not be available for public inspection.

MATTERS TO BE CONSIDERED:

Friday, October 31, 2008

Provision for the Delivery of Legal Services Committee

Agenda

Open Session

1. Approval of agenda.

2. Approval of the Committee's meeting minutes of August 1, 2008.

3. Staff Update on LSC Technology Criteria for Legal Aid Offices.

4. Staff Update on activities implementing the LSC Private Attorney Involvement Action Plan—Help Close the Justice Gap: Unleash the Power of Pro Bono.

5. Staff Update on Pilot Loan Repayment Assistance Program.

6. Update on Native American Delivery and Funding by LSC staff and NAILS representatives.

■ NAILS Update on 1998 Dahlstrom/Barnhouse.

■ LSC Comments to Updated NAILS Report.

■ NAILS Comments.

7. Public comment.

8. Consider and act on other business.

9. Consider and act on adjournment of meeting.

Audit Committee

Agenda

Open Session

1. Approval of agenda.

2. Approval of minutes of the Committee's meetings of August 1-2, 2008.

3. Report of the Inspector General on schedule for LSC's annual audit for FY 2008.

4. Discussion of alternatives for LSC fundraising.

■ Staff report.

5. Consider and act on the establishment of procedures for the receipt, retention, processing and resolution of complaints or expressions of concern regarding accounting, internal controls and auditing issues.

6. Public comment.

7. Consider and act on other business.

8. Consider and act on adjournment of meeting.

Operations & Regulations Committee

Agenda

Open Session

1. Approval of agenda.

2. Approval of the minutes of the Committee's August 1, 2008 meeting.

3. Consider and act on “alternative sanctions” rulemaking.

■ Staff report.

■ OIG comment.

■ Public comment.

4. Consider and act on Draft Final Rule implementing OPEN Government Act changes to the federal Freedom of Information Act (“FOIA”).

■ Staff report.

■ OIG comment.

■ Public comment.

5. Staff Report on LSC's relationship with other entities providing disaster assistance.

6. Consider and act on rulemaking petition regarding financial eligibility requirements in disaster areas.

■ Petition.

■ Staff report.

■ Public comment.

7. Discussion of the responsibilities of Independent Public Accountants (IPAs).

■ Staff report.

■ OIG report.

8. Consider and act on other business.

9. Other public comment.

10. Consider and act on adjournment of meeting.

Saturday, November 1, 2008

Governance and Performance Review Committee

Agenda

Open Session

1. Approval of agenda.

2. Approval of minutes of the Committee's meeting of August 2, 2008.

3. Consider and act on whether to recommend to the Board:

a. the draft Board Member Self-Assessment document;

b. the draft Committee Member Self-Assessment document; and

c. the draft Board evaluation schedule.

4. Board succession planning.

■ Presentation by Victor Fortuno.

■ Comments by John Constance.

5. Consider and act on the designation of the Ethics Officer.

6. Consider and act on recommendation regarding the criteria and critical elements to be used to evaluate the performance of the Corporation's Inspector General.

7. Consider and act on other business.

8. Public comment.

Closed Session

9. Consider and act on recommendation regarding the performance review of President Helaine M. Barnett for calendar year 2008.

10. Consider and act on motion to adjourn meeting.

Board of Directors

Agenda

Closed Session

1. Approval of minutes of the Board's Executive Session of August 2, 2008.

2. Consider and act on recommendation of the Governance & Performance Review Committee regarding the performance review of President Helaine M. Barnett for calendar year 2008.

3. Consider and act on General Counsel's report on potential and pending litigation involving LSC.

4. Inspector General report on Subpoena Enforcement Action.

5. Consider and act on motion to recess.

[Resumes in Open Session after the Finance Committee meeting]

Open Session

6. Approval of agenda.

7. Approval of minutes of the Board's Open Session meeting of August 2, 2008.

8. Approval of minutes of the Board's Open Session telephonic meeting of August 18, 2008.

9. Chairman's Report.

10. Members' Reports.

11. President's Report.

12. Inspector General's Report.

13. Consider and act on the report of the Provision for the Delivery of Legal Services Committee.

14. Consider and act on the report of the Finance Committee.

15. Consider and act on the report of the Operations and Regulations Committee.

16. Consider and act on the report of the Audit Committee.

17. Consider and act on the report of the Governance & Performance Review Committee regarding:

■ Board succession planning.

■ Board Member self-assessment document, Committee Member self-assessment document, and Board evaluation schedule.

18. Consider and act on recommendation of the Governance & Performance Review Committee regarding the criteria and critical elements to be used to evaluate the performance of the Corporation's Inspector General.

19. Consider and act on the report of the Board's Ad Hoc Committee.

20. Consider and act on the recommendations of Directors McKay, Phillips-Jackson and Singleton concerning adoption of a Protocol for Processing Board members' document requests.

21. Consider and act on review of LSC's draft Risk Management Program.

22. Public comment.

23. Consider and act on other business.

24. Consider and act on motion to adjourn meeting.

Finance Committee

Agenda

Open Session

1. Approval of agenda.

2. Approval of the minutes of the Committee's meetings of August 1, 2008.

3. Presentation on LSC's Financial Reports for the Year Ending September 30, 2008.

■ Presentation by David Richardson.

■ Comments by Charles Jeffress.

4. Staff report on status of FY 2009 appropriations process.

■ Presentation by John Constance.

5. Consider and act on Resolution Number 2008-016, Temporary Operating Budget for FY 2009.

■ Presentation by David Richardson and Charles Jeffress.

6. Discussion regarding best practices concerning what information management should be providing to the Board and how/when it should be provided.

7. Public comment.

8. Consider and act on other business.

9. Consider and act on adjournment of meeting.

CONTACT PERSON FOR INFORMATION: Patricia D. Batie, Manager of Board Operations, at (202) 295-1500.

SPECIAL NEEDS: Upon request, meeting notices will be made available in alternate formats to accommodate visual and hearing impairments. Individuals who have a disability and need an accommodation to attend the meeting may notify Patricia D. Batie, at (202) 295-1500.

Dated: October 22, 2008.
Victor M. Fortuno,
Vice President & General Counsel.

[FR Doc. E8-25552 Filed 10-22-08; 4:15 pm]

BILLING CODE 7050-01-P